SMALL BUSINESS ADMINISTRATION

[Disaster Declaration #20533 and #20534; FLORIDA Disaster Number FL-20009]

Presidential Declaration Amendment of a Major Disaster for the State of Florida

AGENCY: U.S. Small Business Administration.

ACTION: Amendment 5.

SUMMARY: This is an amendment of the Presidential declaration of a major disaster for the State of Florida (FEMA-4806-DR), dated August 10, 2024.

DATES: Issued on October 9, 2024.

Physical Loan Application Deadline Date: November 12, 2024.

Economic Injury (EIDL) Loan Application Deadline Date: May 12, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of Florida, dated August 10, 2024, is hereby amended to extend the deadline for filing applications for physical damages as a result of this disaster to November 12, 2024.

Incident: Hurricane Debby.

Incident Period: August 1, 2024 through August 27, 2024.

All other information in the original declaration remains unchanged.

(Catalog of Federal Domestic Assistance Number 59008)

Rafaela Monchek,
Deputy Associate Administrator, Office of Disaster Recovery & Resilience.

[FR Doc. 2024-23886 Filed 10-16-24; 8:45 am]

BILLING CODE 8026-09-P